DEPARTMENT OF COMMERCE

National Oceanic and Atmospheric Administration

Notice of Area the Public Is Requested To Temporarily Avoid During Coral Reef Restoration Activities in the Florida Keys National Marine Sanctuary

AGENCY: National Marine Sanctuaries Program (NMSP), Office of Ocean and Coastal Resources Management (OCRM), National Ocean Service (NOS), National Oceanic and Atmospheric Administration (NOAA), Department of Commerce (DOC).

ACTION: Notice of area to be temporarily avoided.

SUMMARY: NOAA requests that users of the Florida Keys National Marine Sanctuary (FKNMS) avoid, from June 28, 2002 through August 15, 2002, an area of approximately 0.58 acres marked by construction buoys in the vicinity of 25° 0.67′ N, 80° 22.37′ W, which is at “Molkasses Reef” and is located 6 nautical miles (11.1 km) off the southeastern portion of Key Largo, Florida. Avoidance was previously requested for the same region from May 15, 2002 through June 28, 2002. Due to unusual weather conditions, the work was not able to be completed. During the time of avoidance, NOAA and authorized contractors will be conducting physical restoration activities of a coral reef where the M/V Wellwood grounded in August 1984. The public is requested to avoid the area during this period due to the presence of heavy construction materials and equipment (e.g., barges and cranes), avoid the area during this period due to the presence of heavy construction materials and equipment (e.g., barges and cranes), moorings, surface air supply hoses of divers and increased localized boat traffic. The intent of this notice is to ensure the timely and successful completion of the restoration and the protection of life and property during these complex activities.

DATES: The public is requested to avoid the area from June 28, 2002 through August 15, 2002. If less or more time is needed, NOAA will so inform the public. Public notice of this request also will be provided through local news media, a Notice to Mariners, and posting of placards or bulletin boards in public areas in Key Largo.

FOR FURTHER INFORMATION CONTACT: Harriet Sopher, Program Manager, Resource Protection Team, National Marine Sanctuaries Program, National Oceanic and Atmospheric Administration, 1305 East West Highway, SSMC4, 11th Floor, Silver Spring, Maryland, 20910. Telephone number: 301-713-3125, ext. 109.

SUPPLEMENTARY INFORMATION:

Background

On August 4, 1984, the M/V Wellwood, a 122-meter Cypriot-registered freighter, ran aground on the upper forereef of Molasses Reef within the FKNMS. The grounding site is a bank reef located 6 nautical miles (11.1 km) off the southeast portion of Key Largo, Florida (centered at approximately 25°0.67′ N, 80°22.37′ W). The impact of the grounding and the shifting of the vessel created large scars on the Molasses Reef forereef. Significant injuries were inflicted to the coral reef colonies, substrate, and other resident marine organisms such as sponges and sea fans. The unconsolidated coral rubble and ship debris have been removed. Storm events, including Hurricane Georges in the autumn of 1998, have caused additional damage to the grounding site.

Section 312 of the National Marine Sanctuaries Act (NMSA; 16 U.S.C. 1443) authorizes NOAA to pursue claims for response costs and damages when sanctuary resources are destroyed, lost or injured. Funds recovered under 312 are used to restore, replace or acquire equivalent sanctuary resources. As part of the restoration process at the site of the M/V Wellwood grounding, NOAA and its authorized contractor will be placing reef modules and tremie concrete to rebuild the physical structure of the damaged coral reef. This activity will occur from April 15, 2002 through August 15, 2002.

Because divers, moorings, heavy construction materials and equipment (e.g., barges and cranes) and increased localized boat traffic will be present during the restoration activity, NOAA requests the public to avoid an area of approximately 0.58 acres where the restoration activity will occur. Five to seven, recreational mooring buoys will be removed from the work area and the nearby vicinity. The work area will be marked by construction buoys. The buoys will be set about 30 feet beyond the barge tie down locations, and create an area approximately 200 feet by 150 feet, with the longer axis oriented in a NE-SW direction, around the grounding site (25°0.67′ N, 80°22.37′ W). The intent is to provide an area for the conduct of these important restoration activities; protect the life and property of construction crews and Sanctuary users while heavy construction materials and equipment (e.g., barges and cranes) are in the area; protect moorings which will be used at the site of stabilize the barges; protect the surface air supply hoses of the divers and SCUBA crew who will be conducting the restoration activities; and ensure timely and successful completion of the restoration. The area that the public is requested to avoid is the minimum area necessary to moor the barges and includes buffer zones to moor support vessels and provide an extra margin for public safety during the restoration activities. The time period for which the public is requested to avoid the restoration site is the expected time necessary to complete the construction activities. If less or more time is needed, NOAA will so notify the public. During the spring of 2002, one-on-one contact was made with local dive operators, a public meeting was held to explain the restoration project and make the public aware of the area it would be requested to temporarily avoid. Additionally, NOAA issued press releases to the local newspapers and radio stations which have covered the restoration planning process and which have provided notice of NOAA's request for the public to avoid the restoration area.

Locations and Boundaries of the Area the Public Is Requested To Avoid

The area which the public is requested to avoid is located approximately 6 nautical miles offshore the southeast portion of the Key Largo, Florida (centered near 25° 0.67′ N, 80° 22.37′ W). The total area is approximately 0.58 acres. The boundary of this area will be marked by construction buoys.

The area is bounded by the following coordinates:

Latitude | Longitude
A: 25°00′ 37.96364″N | 80°22′ 14.60425″W
B: 25°00′ 31.20173″N | 80°22′ 22.54159″W
C: 25°00′ 45.20646″N | 80°22′ 22.02476″W
D: 25°00′ 38.44445″N | 80°22′ 29.96212″W

Dated: July 16, 2002.
Jamison S. Hawkins,
Deputy Assistant Administrator for Ocean Services and Coastal Zone Management.

[FR Doc. 02-18446 Filed 7-19-02; 8:45 am]

BILLING CODE 3510-NK-M